DEPARTMENT OF HEALTH AND HUMAN SERVICES

Agency for Toxic Substances and Disease Registry

[Docket No. ATSDR-2017-0003]

Proposed Substances To Be Evaluated for Set 31 Toxicological Profiles

AGENCY: Agency for Toxic Substances and Disease Registry (ATSDR), Department of Health and Human Services (HHS).

ACTION: Notice; request for comments.

SUMMARY: The Agency for Toxic Substances and Disease Registry (ATSDR) located in the Department of Health and Human Services (HHS) is initiating the development of its 31st set of toxicological profiles (Set 31). Today's announcement invites voluntary public nominations of substances for profile development. ATSDR is soliciting public nominations of substances found on the Substance Priority List (SPL) at https://www.atsdr.cdc.gov/spl.

DATES: Comments must be submitted April 24, 2017.

ADDRESSES: You may submit nominations, identified by Docket No. ATSDR-2017-0003, by any of the following methods:

*Internet: Access the Federal eRulemaking portal at http://www.regulations.gov. Follow the instructions for submitting comments.

*Mail: Division of Toxicology and Human Health Sciences, 1600 Clifton Rd. NE., MS F-57, Atlanta, GA 30329.

Instructions: All submissions must include the agency name and docket number for this notice. All relevant comments will be posted without change. This means that no confidential business information or other confidential information should be submitted in response to this notice. Refer to the section Submission of Nominations (below) for the specific information required.

FOR FURTHER INFORMATION CONTACT: For further information, please contact Commander Jessilynn B. Taylor, Division of Toxicology and Human Health Sciences, 1600 Clifton Rd. NE., MS F-57, Atlanta, GA 30329, Email: jxt1@cdc.gov; phone: 770-488-3313.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) with regard to hazardous substances most commonly found at facilities on the CERCLA National Priorities List (NPL). Among these statutory requirements is a mandate for the Administrator of ATSDR to prepare toxicological profiles for each substance included on the SPL. This list identifies 275 hazardous substances that ATSDR and EPA have determined pose the most significant current potential threat to human health. The availability of the revised list of the 275 SPL substances was announced in April, 2015 on the following Web site: https://www.atsdr.cdc.gov/spl.

Substances To Be Evaluated for Set 31 Toxicological Profiles

Each year, ATSDR develops a list of substances to be considered for toxicological profile development. The Set 31 nomination process includes consideration of all substances on ATSDR's SPL, as well as other substances nominated by the public. The 275 substances on the SPL will be considered for Set 31 Toxicological Profile development. This list may be found at the following Web site: https://www.atsdr.cdc.gov/spl.

Submission of Nominations for the Evaluation of Set 31 Proposed Substances

ATSDR also will consider the nomination of any substance that is not on the SPL under the authority of the Comprehensive, Environmental Response, Compensation, and Liability Act (CERCLA) to “. . . establish and maintain an inventory of literature, research, and studies on the health effects of toxic substances” under CERCLA Section 104(i)(1)(B), to respond to requests for consultation under section 104(i)(4), and to support the site-specific response actions conducted by ATSDR, as otherwise necessary.

Today's document invites voluntary public nominations for substances included on the SPL and for substances not listed on the SPL. All nominations should include the full name of the nominator, affiliation, and email address. When nominating a non-SPL substance, please include the rationale for the nomination. Please note that email addresses will not be posted in the docket found at www.regulations.gov.

ATSDR will evaluate all data and information associated with nominated substances and will determine the final list of substances to be chosen for toxicological profile development. Substances will be chosen according to ATSDR's specific guidelines for selection. These guidelines can be found in the Selection Criteria announced in the Federal Register on May 7, 1993 (58 FR 27286). A hard copy of the Selection Criteria is available upon request or may be accessed at: http://www.atsdr.cdc.gov/toxprofiles/guidance/criteria_for_selecting_tp_support.pdf.

Please ensure that your comments are submitted within the specified nomination period. Nominations received after the closing date will be marked as late and may be considered only if time and resources permit.

Pamela I. Protzel Berman,
Associate Director, Office of Policy, Planning and Evaluation, National Center for Environmental Health, Agency for Toxic substances and Disease Registry.

[FR Doc. 2017-05736 Filed 3-22-17; 8:45 am]

BILLING CODE 4163-70-P